DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project, the South Fresno State Route 99 Corridor Project on State Route 99, from post mile 12.5 to 19.1 in the County of Fresno, in the State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 16, 2024. If the Federal law that authorizes judicial review of a claim provides a time period of less than 150 days for filing such claim, then that shorter time period still applies.

FOR FURTHER INFORMATION CONTACT: For Caltrans: John Thomas, Branch Chief, Northern San Joaquin Valley Management Branch 1, 2015 E Shields Avenue, Suite 100, Fresno, CA 93726, (559) 408-4496, john.q.thomas@dot.ca.gov, Mon.-Fri. 9:00 a.m.-5:00 p.m.

SUPPLEMENTARY INFORMATION: Effective July 1, 2007, the Federal Highway Administration (FHWA) assigned, and the California Department of Transportation (Caltrans) assumed, environmental responsibilities for this project pursuant to 23 U.S.C. 327. Notice is hereby given that the Caltrans, has taken final agency actions subject to 23 U.S.C. 139(l)(1) by issuing licenses, permits, and approvals for the following highway project in the State of California: The South Fresno State Route 99 Corridor Project on State Route 99, from post mile 12.5 to 19.1 in the County of Fresno, California. Caltrans proposes to reconstruct two existing half interchanges where State Route 99 intersects with American Avenue and North Avenue, between post miles 12.5 and 19.1, by expanding them to full interchanges and bringing them into compliance with current Caltrans design standards. The actions by the Federal agencies, and the laws under which such actions were taken, are described in the Final Environmental Assessment (FEA) for the project, approved on January 24, 2023, in the FHWA Finding of No Significant Impact (FONSI) issued on January 24, 2023, and in other documents in the FHWA project records. The FEA, FONSI, and other project records are available by contacting Caltrans at the addresses provided above. The Caltrans FEA and FONSI can be viewed and downloaded from the project website at https://dot.ca.gov/caltrans-near-me/district-6/district-6-projects/06-0h240.

This notice applies to all Federal agency decisions as of the issuance date of this notice and all laws under which such actions were taken, including but not limited to:

1. General: National Environmental Policy Act (NEPA) [42 U.S.C. 4321-4335].

2. Air: Clean Air Act [23 U.S.C. 109(j) and 42 U.S.C. 7521(a)].

3. Land: The Public Health and Welfare [42 U.S.C. 4331(b)(2)].

4. Wildlife: Federal Endangered Species Act [16 U.S.C. 1531-1543]; Fish and Wildlife Coordination Act [16 U.S.C. 661-666(C); Migratory Bird Treaty Act [16 U.S.C. 760c-760g].

5. Historic and Cultural Resources: Section 106 of the National Historic Preservation Act of 1966, as amended [16 U.S.C. 470(f) et seq.].

6. Social and Economic: NEPA implementation [23 U.S.C. 109(h)]; Civil Rights Act of 1964 [42 U.S.C. 2000(d)-2000(d)(1)].

7. Wetlands and Water Resources: Clean Water Act [33 U.S.C. 1344].

8. Executive Orders: E.O. 11990 Protection of Wetlands; E.O. 11988 Floodplain management; E.O. 12898 Federal actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Antonio Johnson,
Director, Planning, Environment and Right of Way, Federal Highway Administration, California Division.

[FR Doc. 2023-17626 Filed 8-16-23; 8:45 am]

BILLING CODE 4910-RY-P